DEPARTMENT OF VETERANS AFFAIRS

Notice To Extend the Public Comment Period

SUMMARY: On December 14, 2018, The U.S. Department of Veterans Affairs (VA) published a notice at 83 FR 64431 for the VA's Draft Programmatic Environmental Impact Statement, West Los Angeles Medical Center Campus Draft Master Plan (Draft PEIS). The public comment period ends January 29, 2019. This notice announces an extension of the public comment period until February 13, 2019.

SUPPLEMENTARY INFORMATION: A notice of availability was published in the Federal Register by the U.S. Environmental Protection Agency on December 7, 2018 (83 FR 63161) and a companion notice was published by the VA on December 14, 2018 at 83 FR 64431. This notice announces an extension of the public comment period for the VA published Draft PEIS until February 13, 2019. The comment period is being extended to allow the public and other Federal agencies additional time to file comments due to the protracted shutdown of the federal government that ended on January 26, 2019. Written comments may be submitted through http://www.regulations.gov; by mail or hand delivery to the Director, Office of Regulation Policy and Management (00REG), Department of Veterans Affairs, 810 Vermont Avenue NW, Room 1063B, Washington, DC 20420; or by fax to 202-273-9026. Comments should indicate that they are submitted in response to “Draft Programmatic Environmental Impact Statement (PEIS) for the West Los Angeles Medical Center Campus Draft Master Plan”. The Draft PEIS is available electronically for public viewing at www.losangeles.va.gov/masterplan/ and hard copies are available at the following libraries: Los Angeles City Hall, 200 N Spring Street, Los Angeles, CA 90012; Donald Bruce Kaufman Brentwood Branch Library, 11820 San Vicente Boulevard, Los Angeles, CA 90049; West Los Angeles Regional Library, 11360 Santa Monica Boulevard, Los Angeles, CA 90025; Westwood Branch Library, 1246 Glendon Avenue, Los Angeles, CA 90024; VA GLAHS WLA Medical Center, 11301 Wilshire Boulevard, Los Angeles, CA 90073, Building 500/Room 6429K.

Dated: January 29, 2019.
Jeffrey M. Martin,
Assistant Director, Office of Regulation Policy & Management, Office of the Secretary, Department of Veterans Affairs.

[FR Doc. 2019-00735 Filed 1-31-19; 8:45 am]

BILLING CODE 8320-01-P